DEPARTMENT OF TRANSPORTATION

Surface Transportation Board

[Docket No. EP 290 (Sub-No. 5) (2012-1)]

Quarterly Rail Cost Adjustment Factor

AGENCY: Surface Transportation Board.

ACTION: Approval of rail cost adjustment factor.

SUMMARY: The Board has approved the first quarter 2012 rail cost adjustment factor (RCAF) and cost index filed by the Association of American Railroads. The first quarter 2012 RCAF (Unadjusted) is 1.169. The first quarter 2012 RCAF (Adjusted) is 0.514. The first quarter 2012 RCAF-5 is 0.488. The Board noted an error in the fourth quarter 2011 Labor index, which will be accounted for using the second quarter 2012 forecast error calculation.

DATES: Effective Date: January 1, 2012.

FOR FURTHER INFORMATION CONTACT: Pedro Ramirez, (202) 245-0333. Federal Information Relay Service (FIRS) for the hearing impaired: (800) 877-8339.

SUPPLEMENTARY INFORMATION: Additional information is contained in the Board's decision, which is available on our Web site, http://www.stb.dot.gov. Copies of the decision may be purchased by contacting the Office of Public Assistance, Governmental Affairs, and Compliance at (202) 245-0238. Assistance for the hearing impaired is available through FIRS at (800) 877-8339.

This action will not significantly affect either the quality of the human environment or energy conservation.

Decided: December 19, 2011.
By the Board, Chairman Elliott, Vice Chairman Begeman, and Commissioner Mulvey.
Raina White,
Clearance Clerk.

[FR Doc. 2011-32874 Filed 12-22-11; 8:45 am]

BILLING CODE 4915-01-P